INTERNATIONAL TRADE COMMISSION

Sanction for Breach of Commission Protective Order

AGENCY: International Trade Commission.

ACTION: Sanction for breaches of Commission protective order.

SUMMARY: Notice is hereby given of the sanction imposed by the Commission for a breach of the administrative protective order (“APO”) issued in Certain Steel Wire Rod, Inv. No. 201-TA-69. The Commission found that Martin J. Lewin and Adam S. Apatoff breached the APO by failing to delete business proprietary information (“BPI”) from the public version of the pre-hearing brief filed on behalf of their client. APOB Inv. #189. This public reprimand is being issued because this breach was the third breach for both Lewin and Apatoff in less than two years and the fourth breach by Lewin within two and one-half years.

FOR FURTHER INFORMATION CONTACT: Carol McCue Verratti, Esq., Office of the General Counsel, U.S. International Trade Commission, 500 E Street, SW., Washington, DC 20436, telephone 202-205-3088. Hearing impaired individuals are advised that information on this matter can be obtained by contacting the Commission's TDD terminal at 202-205-1810. General information concerning the Commission can also be obtained by accessing its Internet server (http://www.usitc.gov).

SUPPLEMENTARY INFORMATION: In connection with the Wire Rod investigation, Messrs. Lewin, Apatoff, and one other attorney filed applications for access to APO information with the Commission. In the applications, they swore (i) not to disclose without written permission any of the information obtained under the APO except to certain enumerated categories of approved persons, (ii) to serve all materials containing BPI disclosed under the APO as directed by the Secretary, and (iii) to otherwise comply with the terms of the APO and the Commission's regulations regarding access to BPI. They also acknowledged in the APO that violation of the APO could subject them, and their firm, to disbarment from practice before the Commission, referral to the U.S. Attorney or appropriate professional association, or “[s]uch other administrative sanctions as the Commission determines to be appropriate * * *” 19 CFR 206.17(d). The Commission granted their applications.

The firm with which Lewin and Apatoff were affiliated at the time of this breach and the prior breaches was very experienced in Commission practice and Lewin, Apatoff, and other attorneys at the firm appeared regularly before the Commission and sought access to APO information on a regular basis. None of the prior breaches committed by Lewin or Apatoff were egregious enough to warrant a public reprimand when considered separately, and were instead dealt with through private means. Although this breach is no more egregious than the prior breaches, the Commission is issuing this public reprimand because it takes very seriously its responsibility to safeguard the BPI it acquires during its investigations. The Commission cannot allow private attorneys to gain access to other parties' BPI and to treat it in a careless way on multiple occasions. Therefore, the Commission has decided that this public reprimand is appropriate. The Commission has decided not to suspend Lewin's and Apatoff's access to APO information at this time because they have not been the subject of any breach allegations since this breach occurred almost two years ago.

Martin J. Lewin and Adam S. Apatoff are reprimanded for failing to delete BPI from the public version of the pre-hearing brief they filed on behalf of their client in this investigation and for committing multiple APO breaches over a relatively short period of time.

The authority for this action is conferred by section 206.17(d) of the Commission's Rules of Practice and Procedure (19 CFR 206.17(d)).

Issued: April 10, 2001.
By order of the Commission.
Donna R. Koehnke,
Secretary.

[FR Doc. 01-9270 Filed 4-13-01; 8:45 am]

BILLING CODE 7020-02-P